DEPARTMENT OF ENERGY

Federal Energy Regulatory Commission

Combined Notice of Filings #1

Take notice that the Commission received the following electric corporate filings:

Docket Numbers: EC17-121-000.

Applicants: Battery Utility of Ohio, LLC.

Description: Errata to May 22, 2017 Application of Battery Utility of Ohio, LLC. for Authorization Under Section 203 of the Federal Power Act and Request for Waivers, et al.

Filed Date: 6/6/17.

Accession Number: 20170606-5101.

Comments Due: 5 p.m. ET 6/12/17.

Docket Numbers: EC17-127-000.

Applicants: Michigan Electric Transmission Company, LLC.

Description: Application Pursuant to Section 203 of the Federal Power Act to Acquire Assets of Michigan Electric Transmission Company, LLC.

Filed Date: 6/5/17.

Accession Number: 20170605-5236.

Comments Due: 5 p.m. ET 6/26/17.

Take notice that the Commission received the following electric rate filings:

Docket Numbers: ER10-1910-015; ER10-1911-015.

Applicants: Duquesne Light Company, Duquesne Power, LLC.

Description: Notice of Change in Status of the Duquesne MBR Sellers.

Filed Date: 6/5/17.

Accession Number: 20170605-5235.

Comments Due: 5 p.m. ET 6/26/17.

Docket Numbers: ER10-2984-036.

Applicants: Merrill Lynch Commodities, Inc.

Description: Notice of Non-Material Change in Status of Merrill Lynch Commodities, Inc.

Filed Date: 6/6/17.

Accession Number: 20170606-5103.

Comments Due: 5 p.m. ET 6/27/17.

Docket Numbers: ER17-1759-000.

Applicants: Southwest Power Pool, Inc.

Description: § 205(d) Rate Filing: Southwestern Power Administration NITS Rate Change to be effective 1/1/2017.

Filed Date: 6/5/17.

Accession Number: 20170605-5220.

Comments Due: 5 p.m. ET 6/26/17.

Take notice that the Commission received the following electric securities filings:

Docket Numbers: ES17-33-000.

Applicants: Duquesne Light Company.

Description: Application of Duquesne Light Company Pursuant to Section 204 of the Federal Power Act for an Order Authorizing the Issuance of Short-Term Debt.

Filed Date: 6/5/17.

Accession Number: 20170605-5237.

Comments Due: 5 p.m. ET 6/26/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2017.
Kimberly D. Bose,
Secretary.

[FR Doc. 2017-12048 Filed 6-9-17; 8:45 am]

BILLING CODE 6717-01-P